DEPARTMENT OF AGRICULTURE

Rural Housing Service

Notice of Funding Availability (NOFA) for the Section 515 Rural Rental Housing Program for Fiscal Year 2004

AGENCY: Rural Housing Service (RHS), USDA.

ACTION: Notice.

SUMMARY: This NOFA announces the availability of new construction loan funds for the section 515 Rural Rental Housing (RRH) program for Fiscal Year (FY) 2004. A “Notice of Timeframe to Submit Applications for the Section 515 Rural Rental Housing Program for Fiscal Year 2004” was published in the Federal Register on February 6, 2004 (69 FR 5821). This was done soon after passage of a final appropriations act to allow sufficient time for applicants to complete an application and for the Agency to select and process selected applications within the current fiscal year. In the notice dated February 6, 2004, the Agency announced a deadline of April 6, 2004, 5 p.m. local time for each Rural Development State Office, for submitting applications for section 515 new construction loan funds and section 521 Rental Assistance (RA) funds. Detailed information regarding the application and selection process, as well as a listing of the Rural Development State Offices, can be found in the February 6, 2004, notice.

FOR FURTHER INFORMATION CONTACT: For general information, applicants may contact Barbara Chism, Senior Loan Officer, Multi-Family Housing Processing Division, Rural Housing Service, United States Department of Agriculture, Stop 0781, 1400 Independence Avenue, SW., Washington, DC 20250, telephone (202) 690-1436 (voice) (this is not a toll free number) or (800) 877-8339 (TDD-Federal Information Relay Service).

SUPPLEMENTARY INFORMATION:

Programs Affected

The Rural Rental Housing program is listed in the Catalog of Federal Domestic Assistance under Number 10.415, Rural Rental Housing Loans. Rental Assistance is listed in the Catalog under Number 10.427, Rural Rental Assistance Payments.

Discussion of Notice

Authority and Distribution Methodology

A. Authority

Section 515 of the Housing Act of 1949 (42 U.S.C. 1485) provides RHS with the authority to make loans to any individual, corporation, association, trust, Indian tribe, public or private nonprofit organization, consumer cooperative, or partnership to provide rental or cooperative housing and related facilities in rural areas for very-low, low, or moderate income persons or families, including elderly persons and persons with disabilities. Rental Assistance (RA) is a tenant subsidy for very-low and low-income families residing in rural rental housing facilities with RHS financing and may be requested with applications for such facilities.

B. Distribution Methodology

The total amount available for FY 2004 for section 515 is $115,857,375, of which $30,057,375 is available for new construction as follows:

Section 515 new construction funds—$7,837,343

Set-aside for nonprofits—$10,427,163

Set-aside for Underserved Counties and Colonias—$5,792,869

Set-aside for EZ, EC, and REAP Zones— $5,000,000

State Rental Assistance (RA) Designated reserve—$ 1,000,000

C. Set-asides and State RA Reserve

1. Nonprofit set-aside. An amount of $10,427,163 has been set aside for nonprofit applicants. Details on this set-aside are provided in the notice published on February 6, 2004 (69 FR 5821).

2. Underserved counties and colonias set-aside. An amount of $5,792,868 has been set aside for loan requests to develop units in the 100 most needy underserved counties or colonias as defined in section 509(f) of the Housing Act of 1949.

3. EZ, EC, and REAP set-aside. An amount of $5,000,000 has been set aside to develop units in EZ, EC, or REAP communities. If requests for this set-aside exceed available funds, selection will be made by point score.

4. State RA Reserve. $1,000,000 is available nationwide in a reserve for States with viable State Rental Assistance (RA) programs. In order to participate, States are to submit specific written information about the State RA program, i.e., a memorandum of understanding, documentation from the provider, etc., to the National Office.

Dated: March 9, 2004.
Arthur A. Garcia,
Administrator, Rural Housing Service.

[FR Doc. 04-5962 Filed 3-16-04; 8:45 am]

BILLING CODE 3410-XV-P